DEPARTMENT OF TRANSPORTATION

Surface Transportation Board

[Docket No. FD 35694]

Western Washington Railroad, LLC—Lease and Operation Exemption—City of Tacoma, Department of Public Works

On November 20, 2012, Western Washington Railroad, LLC (WWRR), a Washington limited liability company and noncarrier, filed a verified notice of exemption under 49 CFR 1150.31 to lease from the City of Tacoma, Department of Public Works (Tacoma Rail) and operate 7.6 miles of rail line between milepost 60 and milepost 67.6 in Lewis County, WA.

As a result of this transaction, and pursuant to a lease and operation agreement between WWRR and Tacoma Rail dated October 18, 2012, WWRR will provide freight rail service over the line. WWRR states that Tacoma Rail has retained trackage rights over a portion of the line to allow for interchange with WWRR, BNSF Railway Company, the Puget Sound and Pacific Railroad, and Union Pacific Railroad Company, and also over the entire line for emergency routing. WWRR states that the transaction does not impose any interchange commitments.

The effective date of this exemption is December 20, 2012. WWRR states that it expects to commence operations immediately after the effective date of this exemption.

WWRR certifies that its projected annual revenues as a result of this transaction will not exceed $5 million or result in the creation of a Class I or Class II rail carrier.

If the verified notice contains false or misleading information, the exemption is void ab initio. Petitions to revoke the exemption under 49 U.S.C. 10502(d) may be filed at any time. The filing of a petition to revoke will not automatically stay the effectiveness of the exemption. Petitions to stay must be filed by December 13, 2012 (at least seven days prior to the date the exemption becomes effective).

An original and ten copies of all pleadings, referring to Docket No. FD 35694 must be filed with the Surface Transportation Board, 395 E Street SW., Washington, DC 20423-0001. In addition, a copy of each pleading must be served on W. Karl Hansen, Leonard, Street and Deinard, 150 South Fifth Street, Suite 2300, Minneapolis, MN 55402.

Board decisions and notices are available on our Web site at www.stb.dot.gov.

Decided: December 3, 2012.
By the Board, Rachel D. Campbell, Director, Office of Proceedings.
Derrick A. Gardner,
Clearance Clerk.

[FR Doc. 2012-29467 Filed 12-5-12; 8:45 am]

BILLING CODE 4915-01-P